DEPARTMENT OF ENERGY

Federal Energy Regulatory Commission

Combined Notice of Filings #2

Take notice that the Commission received the following electric rate filings:

Docket Numbers: ER23-1773-000.

Applicants: Pomona Energy Storage 2 LLC.

Description: Baseline eTariff Filing: Petition for Approval of Initial Market-Based Rate Tariff to be effective 7/1/2023.

Filed Date: 5/1/23.

Accession Number: 20230501-5220.

Comment Date: 5 p.m. ET 5/22/23.

Docket Numbers: ER23-1774-000.

Applicants: ISO New England Inc., Cross-Sound Cable Company, LLC.

Description: Compliance filing: ISO New England Inc. submits tariff filing per 35: Second Compliance Filing for Order No. 676-J; Revisions to Schedule 18 to be effective 12/31/9998.

Filed Date: 5/1/23.

Accession Number: 20230501-5223.

Comment Date: 5 p.m. ET 5/22/23.

Docket Numbers: ER23-1775-000.

Applicants: Alabama Power Company, Georgia Power Company, Mississippi Power Company.

Description: Compliance filing: Alabama Power Company submits tariff filing per 35: OATT Attachment O Order No. 676-J Compliance Filing to be effective 12/31/9998.

Filed Date: 5/1/23.

Accession Number: 20230501-5235.

Comment Date: 5 p.m. ET 5/22/23.

Docket Numbers: ER23-1776-000.

Applicants: Alabama Power Company, Georgia Power Company, Mississippi Power Company.

Description: § 205(d) Rate Filing: Alabama Power Company submits tariff filing per 35.13(a)(2)(iii: OATT Attachment C Amendment Filing to be effective 7/1/2023.

Filed Date: 5/1/23.

Accession Number: 20230501-5236.

Comment Date: 5 p.m. ET 5/22/23.

Docket Numbers: ER23-1777-000.

Applicants: Diamond Retail Energy, LLC.

Description: Tariff Amendment: Notice of Cancellation of Market-Based Rate Tariff to be effective 6/30/2023.

Filed Date: 5/1/23.

Accession Number: 20230501-5238.

Comment Date: 5 p.m. ET 5/22/23.

Docket Numbers: ER23-1778-000.

Applicants: Diamond Energy East, LLC.

Description: Tariff Amendment: Notice of Cancellation of Market-Based Rate Tariff to be effective 6/30/2023.

Filed Date: 5/1/23.

Accession Number: 20230501-5239.

Comment Date: 5 p.m. ET 5/22/23.

Docket Numbers: ER23-1779-000.

Applicants: Alabama Power Company, Georgia Power Company, Mississippi Power Company.

Description: § 205(d) Rate Filing: Alabama Power Company submits tariff filing per 35.13(a)(2)(iii: OATT Attachment T—Amendment Filing to be effective 7/1/2023.

Filed Date: 5/1/23.

Accession Number: 20230501-5240.

Comment Date: 5 p.m. ET 5/22/23.

Docket Numbers: ER23-1780-000.

Applicants: Diamond Energy NE, LLC.

Description: Tariff Amendment: Notice of Cancellation of Market-Based Rate Tariff to be effective 6/30/2023.

Filed Date: 5/1/23.

Accession Number: 20230501-5241.

Comment Date: 5 p.m. ET 5/22/23.

Docket Numbers: ER23-1781-000.

Applicants: Diamond Energy NY, LLC.

Description: Tariff Amendment: Notice of Cancellation of Market-Based Rate Tariff to be effective 6/30/2023.

Filed Date: 5/1/23.

Accession Number: 20230501-5242.

Comment Date: 5 p.m. ET 5/22/23.

Docket Numbers: ER23-1782-000.

Applicants: Versant Power.

Description: Compliance filing: Order No. 676-J Compliance Filing and Request for Waivers 5-1-2023 to be effective 8/1/2023.

Filed Date: 5/1/23.

Accession Number: 20230501-5243.

Comment Date: 5 p.m. ET 5/22/23.

Docket Numbers: ER23-1783-000.

Applicants: New York Independent System Operator, Inc.

Description: Compliance filing: NYISO compliance filing and waiver request re: FERC Order 676-J to be effective 11/1/2023.

Filed Date: 5/1/23.

Accession Number: 20230501-5245.

Comment Date: 5 p.m. ET 5/22/23.

Docket Numbers: ER23-1784-000.

Applicants: PJM Interconnection, L.L.C.

Description: Compliance filing: Order No. 676-J Compliance Revisions to Tariff, Section 4.2 to be effective 12/31/9998.

Filed Date: 5/1/23.

Accession Number: 20230501-5264.

Comment Date: 5 p.m. ET 5/22/23.

Docket Numbers: ER23-1785-000.

Applicants: ISO New England Inc., Eversource Energy Service Company (as agent), National Grid Service Company Inc.

Description: Compliance filing: ISO New England Inc. submits tariff filing per 35: Order 676-J; Second Compliance Filing—Schedules 20A and 21 to be effective 12/31/9998.

Filed Date: 5/1/23.

Accession Number: 20230501-5269.

Comment Date: 5 p.m. ET 5/22/23.

Docket Numbers: ER23-1786-000.

Applicants: Southwest Power Pool, Inc.

Description: § 205(d) Rate Filing: 4058 Missouri Electric Commission NITSA NOA to be effective 4/1/2023.

Filed Date: 5/1/23.

Accession Number: 20230501-5273.

Comment Date: 5 p.m. ET 5/22/23.

Docket Numbers: ER23-1787-000.

Applicants: Ameren Illinois Company.

Description: § 205(d) Rate Filing: Reimbursement Agrmt—AIC and PPI Gillett Rate Schedule 158 to be effective 5/2/2023.

Filed Date: 5/1/23.

Accession Number: 20230501-5293.

Comment Date: 5 p.m. ET 5/22/23.

Take notice that the Commission received the following electric securities filings:

Docket Numbers: ES23-43-000.

Applicants: MidAmerican Energy Company.

Description: Application Under Section 204 of the Federal Power Act for Authorization to Issue Securities of MidAmerican Energy Company.

Filed Date: 4/28/23.

Accession Number: 20230428-5660.

Comment Date: 5 p.m. ET 5/19/23.

Take notice that the Commission received the following qualifying facility filings:

Docket Numbers: QF23-886-000.

Applicants: 2014 ESA Project Company, LLC.

Description: Form 556 of 2014 ESA Project Company, LLC [Middletown].

Filed Date: 4/28/23.

Accession Number: 20230428-5611.

Comment Date: 5 p.m. ET 5/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2023.
Debbie-Anne A. Reese,
Deputy Secretary.

[FR Doc. 2023-09607 Filed 5-4-23; 8:45 am]

BILLING CODE 6717-01-P